DEPARTMENT OF ENERGY

Federal Energy Regulatory Commission

Notice of Application for Amendment of License and Soliciting Comments, Motions To Intervene, and Protests

February 2, 2001.

Take notice that the following hydroelectric application has been filed with the Commission and is available for public inspection:

a. Application Type: Amendment of License.

b. Project No.: 349-070.

c. Date Filed: December 22, 2000.

d. Applicant: Alabama Power Company (APC).

e. Name of Project: Martin Dam Project.

f. Location: The project is located on the Tallapoosa River in the counties of Coosa, Elmore, and Tallapoosa, Alabama.

g. Filed Pursuant to: Federal Power Act, 16 U.S.C. 791(a)-825(r).

h. Applicant's Contact: Mr. James R. Schauer, Alabama Power Company, P.O. Box 2641, 600 North 18th Street, Birmingham, Alabama, 35291 Telephone (205) 257-1401, or E-mail address: jrschaue@southernco.com.

i. FERC Contact: Any questions on this notice should be addressed to Jim Haimes at (202) 219-2780, or E-mail address: james.haimes@ferc.fed.us.

j. Deadline for filing comments and or motions: 30 days from the issuance date of this notice.

All documents (original and eight copies) should be filed with: David P. Boergers, Secretary, Federal Energy Regulatory Commission, 888 First Street, NE, Washington, DC 20426. Comments and protests may be filed electronically via the internet in lieu of paper. See, 18 CFR 385.2001(a)(1)(iii) and the instructions on the Commission's website at http://www.ferc.fed.us/efi/doorbell.htm.

Please include the project number (P-349-070) on any comments or motions filed.

The Commission's Rules of Practice and Procedure require all interveners filing documents with the Commission to serve a copy of that document on the official service list for the project. Further, if an intervener files comments or documents with the Commission relating to the merits of an issued that may affect the responsibilities of a particular resource agency, the intervener also must serve a copy of the document on that resource agency.

k. Description of Amendment: APC proposes to refurbish and upgrade three of the four existing turbine-generator units at Martin Dam powerhouse. The project's fourth unit, a 552.-megawatt (MW) facility installed in 1952, would not be involved.

Specifically, APC proposes to rehabilitate the three 75-year-old, 33-MW units by installing in each the following new components/systems: a modern-design turbine runner; wicket gate; greaseless bushings for the gate operating system; stainless steel sleeves on the turbine shafts; thrust bearing oil coolers; and wedging system for the generator stator coils. In addition, the licensee proposes to re-insulate the generator rotor pole pieces, and to clean the paint all turbine and generator components.

The proposed measures would increase: (1) the generating capacity of each of the three rehabilitated units by 7 to 10 MW; and (2) the combined hydraulic capacity of the three rehabilitated turbines by 900 cubic feet per second (cfs) or by 8.6 percent—from 10,470 cfs currently to 11,370 cfs.

l. Locations of the Application: A copy of the application is available for inspection and reproduction at the Commission's Public Reference Room located at 888 First Street NE, Room 2A, Washington, DC 20426, or by calling (202) 208-1371. This filing may be viewed on http://www.ferc.fed.us/online/rims.htm (call (202) 208-2222 for assistance). A copy is also available for inspection and reproduction at the address in item h, above.

m. Individuals desiring to be included on the Commission's mailing list for the Martin Dam Project, No. 349, should so indicate by writing to the Secretary of the Commission.

n. Comments, Protests, or Motions to Intervene—Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the subject application.

o. Filing the Service of Responsive Documents—Any filings must bear in all capital letters the title “COMMENTS”, “RECOMMENDATIONS FOR TERMS AND CONDITIONS”, “PROTESTS”, OR “MOTION TO INTERVENE”, as applicable, and the project name and number, “Martin Dam Amendment of License No. 349-070”. Any of the above-named documents must be filed by providing the original and the number of copies provided by the Commission's regulations to: The Secretary, Federal Energy Regulatory Commission, 888 First Street, NE, Washington, DC 20426. A copy of any motion to intervene must also be served upon the representative of the APC specified in item h, above.

p. Agency Comments—Federal, state, and local agencies are invited to file comments on the subject application for amendment of license. If any agency does not file comments within the time specified for filing comments, it will be presumed to have no comments. One copy of an agency's comments must also be sent to the Applicant's representative listed in item h, above.

David P. Boergers,
Secretary.

[FR Doc. 01-3260 Filed 2-7-01; 8:45am]

BILLING CODE 6717-01-M